ENVIRONMENTAL PROTECTION AGENCY

[FRL-6957-5]

Clean Water Act Section 303(d): Final Agency Action on 19 Total Maximum Daily Loads (TMDLs) and Final Agency Action on 54 Determinations That TMDLs Are Not Needed

AGENCY: Environmental Protection Agency (EPA).

ACTION: Notice of availability.

SUMMARY: This notice announces the final agency action on 19 TMDLs prepared by EPA Region 6 for waters listed in Louisiana's Mermentau and Vermilion/Teche river basins, under section 303(d) of the Clean Water Act (CWA). This notice also announces the final agency action removing 54 waterbody/pollutant combinations from the Louisiana 303(d) list because TMDLs are not needed. EPA evaluated these waters and prepared the 19 TMDLs needed in response to a Court Order dated October 1, 1999, in the lawsuit Sierra Club, et al. v. Clifford et al., No. 96-0527, (E.D. La.). Under this court order, EPA is required to prepare TMDLs when needed for waters on the Louisiana 1998 section 303(d) list by December 31, 2007. Documents from the administrative record files for the 54 determinations that TMDLs are not needed and the final 19 TMDLs, TMDL calculations and responses to comments may be viewed at http://www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. Discussion of the court's order may be found at 65 FR 54032 (September 6, 2000).

EPA Takes Final Agency Action on 19 TMDLs

By this notice EPA is taking a final agency action on the following 19 TMDLs for waters located within the Mermentau and Vermilion/Teche basins:

Subsegment | Waterbody name | Pollutant
050201 | Bayou Plaquemine Brule | Mercury.
050101 | Bayou Des Canes | Mercury.
050702 | Seventh Ward Canal (Intracoastal Waterway) | Mercury.
060203 | Chicot Lake | Mercury.
050901 | Coastal Waters of the Gulf of Mexico (Mermentau River Basin Coastal) | Mercury.
061201 | Coastal Waters of the Gulf of Mexico (Vermilion-Teche RB-CB & G) | Mercury.
050101 | Bayou Des Cannes | Fecal Coliform.
050201 | Bayou Plaquemine Brule | Fecal Coliform.
050301 | Bayou Nezpique | Fecal Coliform.
050501 | Bayou Queue de Tortue | Turbidity.
060208 | Bayou Boeuf | Fecal Coliform.
060301 | Bayou Teche | Fecal Coliform.
060401 | Bayou Teche | Fecal Coliform.
060801 | Vermilion River | Fecal Coliform, Dissolved Oxygen, Nitrogen.
060802 | Vermilion River | Fecal Coliform, Dissolved Oxygen, Nitrogen.

EPA requested the public to provide EPA with any significant data or information that may impact the 19 TMDLs in 65 FR 19762 (April 12, 2000). The comments received and EPA's response to comments may be found at http://www.epa.gov/region6/water/tmdl.htm.

Final Agency Action Removing 54 Waterbody/Pollutant Combinations From the Louisiana 303(d) List Because TMDLs Are Not Necessary
Waterbody | Waterbody description | Suspected pollutant | Reason for delisting
050101 | Bayou Des Cannes—Headwaters to Mermentau | Turbidity | Assessment of new data and information shows it Is meeting Water Quality Standards (WQS).
050102 | Bayou Joe Marcel | Turbidity | Assessment of new data and information show it is meeting WQS.
050103 | Bayou Mallet | Turbidity | Assessment of new data and information show it is meeting WQS.
050201 | Bayou Plaquemine Brule Headwaters to Bayou Des Cannes | Chlorides, Sulfates | Assessment of new data and information show it is meeting WQS.
050301 | Bayou Nezpique—Headwaters to Mermentau River | Turbidity | Assessment of new data and information show it is meeting WQS.
050401 | Mermentau River—Origin To Lake Arthur | Turbidity | Assessment of new data and information show it is meeting WQS.
050402 | Lake Arthur and Lower Mermentau | Turbidity | Assessment of new data and information shows it is meeting WQS.
050501 | Bayou Que de Tortue—Headwaters to Mermentau River | Chlorides, Sulfates, Phosphorus | Assessment of new data and information shows it is it meeting WQS.
050602 | Intracoastal Waterway | Turbidity | Assessment of new data and information shows it is meeting WQS.
050701 | Grand Lake | Turbidity | Assessment of new data and information shows it is meeting WQS.
050702 | Intracoastal Waterway | Turbidity | Assessment of new data and information shows it is meeting WQS.
050703 | White Lake | Sulfates | Assessment of new data and information shows it is meeting WQS.
050901 | Bays and Gulf Waters to State 3-mile Limit | Turbidity | Assessment of new data and information shows it is meeting WQS.
060202 | Bayou Cocodrie | Turbidity | Assessment of new data and information shows it is meeting WQS.
060203 | Chicot Lake | Turbidity | Assessment of new data and information shows it is meeting WQS.
060204 | Bayou Courtableau—Origin to West Atchafalaya Borrow Pit Canal | Chlorides Turbidity | Assessment of new data and information shows it is meeting WQS.
060205 | Bayou Teche—Headwaters at Bayou Courtableau to I-10 | Turbidity | Assessment of new data and information shows it is meeting WQS.
060207 | Bayou des Glaises Diversion Channel | Turbidity | Assessment of new data and information shows it is meeting WQS.
060208 | Bayou Boeuf—Headwaters to Bayou Courtableau | Chlorides, Sulfates, Turbidity | Assessment of new data and information shows it is meeting WQS.
060209 | Irish Ditch/Big Bayou—Unnamed Ditch to Irish Ditch | Salinity/TDS, Chlorides, Sulfates | Assessment of new data and information shows it is meeting WQS.
060210 | Bayou Carron | Turbidity | Assessment of new data and information shows it is meeting WQS.
060211 | West Atchafalaya Borrow Pit Canal | Chlorides Turbidity | Assessment of new data and information shows it is meeting WQS.
060212 | Chatlin Lake Canal and Bayou DuLac | Turbidity | Assessment of new data and information shows it is meeting WQS.
060401 | Bayou Teche—Keystone Locks and Dam to Charenton Canal | Turbidity | Assessment of new data and information shows it is meeting WQS.
060501 | Bayou Teche—Charenton Canal to Wax Lake Outlet | Turbidity | Assessment of new data and information shows it is meeting WQS.
060601 | Charenton Canal | Turbidity | Assessment of new data and information shows it is meeting WQS.
060701 | Tete Bayou | Turbidity | Assessment of new data and information shows it is meeting WQS.
060702 | Lake Fausse Point and Dauterive Lake | Turbidity | Assessment of new data and information shows it is meeting WQS.
060703 | Bayou du Portage | Turbidity | Assessment of new data and information shows it is meeting WQS.
060801 | Vermilion River—Head-waters at Bayou Fusilier-Bourbeaux Junction to New Flanders (Ambassador Caffery Bridge at Hwy 3073) | Chlorides, Salinity/TDS, Turbidity | Assessment of new data and information shows it is meeting WQS.
060802 | Vermilion River—From New Flanders (Ambassador Caffery Bridge at Hwy 3073) To Intracoastal Waterway | Salinity/TDS, Chlorides, Temp., Turbidity | Assessment of new data and information shows it is meeting WQS.
060803 | Vermilion River Cutoff | Turbidity | Assessment of new data and information shows it is meeting WQS.
060804 | Intracoastal Waterway | Turbidity | Assessment of new data and information shows it is meeting WQS.
060901 | Bayou Petite Anse | Turbidity | Assessment of new data and information shows it is meeting WQS.
060902 | Bayou Carlin (Delcambre Canal)—Lake Peigneur to Bayou Petite Anse (Estuarine) | Turbidity | Assessment of new data and information shows it is meeting WQS.
060903 | Bayou Tigre | Turbidity | Assessment of new data and information shows it is meeting WQS.
060904 | Vermilion River B890 Basin New Iberia Southern Drainage Canal | Turbidity | Assessment of new data and information shows it is meeting WQS.
060906 | Intracoastal Waterway | Turbidity | Assessment of new data and information shows it is meeting WQS.
060909 | Lake Peigneur | Turbidity | Assessment of new data and information shows it is meeting WQS.
061102 | Intracoastal Waterway | Turbidity | Assessment of new data and information shows it is meeting WQS.

EPA requested the public to provide to EPA any significant data or information that may impact the determination that 54 TMDLs are not necessary in 65 FR 79100 (December 18, 2000). No comments were received.

Dated: March 1, 2001.
Sam Becker,
Acting Director, Water Quality Protection Division, Region 6.

[FR Doc. 01-8277 Filed 4-4-01; 8:45 am]

BILLING CODE 6560-50-U